DEPARTMENT OF THE INTERIOR

National Park Service

[NPS-WASO-NRSS-15890; PPWONRADE2.PMP00EI05.YP0000]

Final Environmental Impact Statement Non-Federal Oil and Gas Regulations

AGENCY: National Park Service, Interior.

ACTION: Notice of availability, Final Environmental Impact Statement.

SUMMARY: The National Park Service (NPS) announces the availability of the Final Environmental Impact Statement (FEIS) for the Nonfederal Oil and Gas Regulations (36 CFR part 9, subpart B) Revisions.

DATES: September 7, 2016.

ADDRESSES: Copies of the FEIS will be available for public review at http://parkplanning.nps.gov/FEIS9B. A limited number of hard copies will be available upon request.

FOR FURTHER INFORMATION CONTACT: David Steensen, Chief, Geologic Resource Division, National Park Service, P.O. Box 25287, Denver, CO 80225; phone (303) 969-2014. The responsible official for this FEIS is the Associate Director, Natural Resource Stewardship and Science, 1849 C Street NW., Washington, DC 20240.

SUPPLEMENTARY INFORMATION: Pursuant to the National Environmental Policy Act of 1969, 42 U.S.C. 4332(2)(C), the FEIS evaluates the impacts of three alternatives, including the following alternative elements:

• Elimination of two regulatory provisions that exempt 60% of the oil and gas operations in System units. All operators in System units would be required to comply with the 9B regulations.

• Elimination of the financial assurance (bonding) cap. Financial assurance would be equal to the reasonable estimated cost of site reclamation.

• Improving enforcement authority by incorporating existing NPS penalty provisions. Law enforcement staff would have authority to write citations for noncompliance with the regulations.

• Authorizing compensation to the federal government for new access on federal lands and waters outside the boundary of an operator's mineral right.

• Reformatting the regulations to make it easier to identify an operator's information requirements and operating standards that apply to each type of operation.

Dated: August 30, 2016.
Raymond M. Sauvajot,
Associate Director, Natural Resource Stewardship and Science, Washington Office, National Park Service.

[FR Doc. 2016-21186 Filed 9-2-16; 8:45 am]

BILLING CODE 4312-52-P